DEPARTMENT OF HEALTH AND HUMAN SERVICES

Administration for Children and Families

Submission for OMB Review; Comment Request

Title: Required Data Elements for Paternity Establishment Affidavits.

OMB No.: 0970-0171.

Description: The Personal Responsibility and Work Opportunity Reconciliation Act of 1996 required the Secretary of the Department of Health and Human Services to Specify the minimum data elements of an affidavit to be used for the voluntary acknowledgment of paternity. States must enact laws requiring the development and use of the affidavit and to give full faith and credit to affidavits signed in any other State according to its procedures.

Respondents: State birth record agencies and State Child Support Offices.

Annual Burden Estimates
Instrument | Number of respondents | Number of responses per respondent | Average burden hours per response | Total burden hours
Affidavit | 2,000,000 | .2243 | .166 | 74,468

Estimated Total Annual Burden Hours: 74,468.

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: April 20, 2001.
Bob Sargis,
Reports Clearance Officer.

[FR Doc. 01-10234 Filed 4-24-01; 8:45 am]

BILLING CODE 4184-01-M